FEDERAL COMMUNICATIONS COMMISSION

[AU Docket No. 19-244; DA 20-520; FRS 16785]

Updated Population Data for 95 License Areas for the Auction of Priority Access Licenses in the 3550-3650 MHz Band; Availability of File With Recalculated Bidding Units and Upfront Payment and Minimum Opening Bid Amounts for Auction 105

AGENCY: Federal Communications Commission.

ACTION: Notice; updated data and payment amounts.

SUMMARY: This document announces the availability of updated population data used for calculating bidding units, upfront payment amounts, and minimum opening bid amounts for the licenses to be offered in Auction 105. This document also announces the availability of an updated file listing the population, bidding units, upfront payment amounts and minimum opening bids amounts for licenses to be offered in Auction 105.

DATES: Upfront payments for Auction 105 must be received by 6:00 p.m. ET on June 19, 2020. The mock auction is scheduled for July 20, 2020. Auction 105 is scheduled to begin on July 23, 2020.

FOR FURTHER INFORMATION CONTACT: Email auction105@fcc.gov or contact the FCC Auctions Hotline at (717) 338-2868.

SUPPLEMENTARY INFORMATION: This is a summary of the Auction 105 Updated Population Data Public Notice, AU Docket No. 19-244, DA 20-520, released on May 18, 2020. The complete text of the Auction 105 Updated Population Data Public Notice, and any related documents, is available for public inspection and copying from 8:00 a.m. to 4:30 p.m. ET Monday through Thursday or from 8:00 a.m. to 11:30 a.m. ET on Fridays in the FCC Reference Information Center, located in Room CY-A257 of the FCC Headquarters, 445 12th Street SW, Washington, DC 20554, except when FCC Headquarters is otherwise closed to visitors. See, e.g., Public Notice, Restrictions on Visitors to FCC Facilities, March 12, 2020. The complete text and related documents are also available on the Commission's website at www.fcc.gov/auction/105 or by using the search function for AU Docket No. 19-244 on the Commission's ECFS web page at www.fcc.gov/ecfs. Alternative formats are available to persons with disabilities by sending an email to FCC504@fcc.gov or by calling the Consumer & Governmental Affairs Bureau at (202) 418-0530 (voice), (202) 418-0432 (TTY).

1. In the Auction 105 Procedures Public Notice, 85 FR 22622, April 23, 2020, the Commission adopted a methodology for calculating bidding units and upfront payment and minimum opening bid amounts for the county-based licenses to be offered in Auction 105 that is based on population and bandwidth. An “Attachment A” file listing the bidding units, upfront payment amount, and minimum opening bid amount for each license was made available on the Auction 105 website at www.fcc.gov/auction/105 and labeled as “Adopted (3/2/2020).” The Wireless Telecommunications Bureau (Bureau) and the Office of Economics and Analytics (OEA) now announce the availability of an updated version of this file.

2. Consistent with the Commission's decision regarding county-based license areas in the 2018 3.5 GHz Order, 83 FR 63076, December 7, 2018, and with existing Commission policies and procedures used in prior auctions, the Bureau and OEA attributed the 2010 decennial census population figures to the county legal boundaries as of January 1, 2017, and used the resulting population figures for calculating bidding units, upfront payment amounts, and minimum opening bid amounts for the licenses to be offered in Auction 105. The Bureau and OEA recently became aware of anomalies in those population figures for 95 of these license areas and have corrected the Attachment A file. Specifically, the population has been changed in the updated file for all 91 license areas in American Samoa, Guam, the Commonwealth of the Northern Mariana Islands, Puerto Rico, and the U.S. Virgin Islands, as well as for three areas in Alaska and one area in Virginia. In all but a few of those cases (where the change in population was relatively small), the bidding units, upfront payment amounts, and minimum opening bid amounts have changed accordingly. The revised numbers are higher for some areas and lower for others.

3. The updated file is available on the Auction 105 website at www.fcc.gov/auction/105 at the “Updated (May 18, 2020)” link under the “Attachment A Files” heading. Corresponding updates will also be made to the FCC Form 175 including the bidding unit data provided for the license areas and in the upfront payment calculator. The updates to the FCC Form 175 will be made before the resubmission window opens. When making upfront payments applicants are reminded to check their calculations carefully, based on the updated figures, because there is no provision for increasing a bidder's eligibility after the upfront payment deadline.

Federal Communications Commission.
Gary Michaels,
Deputy Chief, Auctions Division, Office of Economics and Analytics.

[FR Doc. 2020-11193 Filed 5-22-20; 8:45 am]

BILLING CODE 6712-01-P